FEDERAL COMMUNICATIONS COMMISSION

47 CFR Part 64

[CG Docket Nos. 13-24 and 03-123; DA 19-521]

IP CTS Order Hamilton Petition for Reconsideration

AGENCY: Federal Communications Commission.

ACTION: Petition for reconsideration.

SUMMARY: The Consumer and Governmental Affairs Bureau seeks comment on a Petition for Reconsideration (Petition).

DATES: Oppositions to the Petition must be filed on or before July 3, 2019. Replies to oppositions must be filed on or before July 15, 2019.

ADDRESSES: Federal Communications Commission, 445 12th Street SW, Washington, DC 20554.

FOR FURTHER INFORMATION CONTACT: Michael Scott, Consumer and Governmental Affairs Bureau, at: (202) 418-1264; email: Michael.Scott@fcc.gov.

SUPPLEMENTARY INFORMATION: This is a summary of the Commission's document, DA 19-521, released June 5, 2019. The full text of the Petition is available for viewing and copying at the FCC Reference Information Center, 445 12th Street SW, Room CY-A257, Washington, DC 20554. It also may be accessed online via the Commission's Electronic Comment Filing System at: https://ecfsapi.fcc.gov/file/1040816929886/Hamilton_Petition_for_Reconsideration_of_2019_IPCTS_URD_Order.pdf. The Commission will not send a Congressional Review Act (CRA) submission to Congress or the Government Accountability Office pursuant to the CRA, 5 U.S.C. because no rules are being adopted by the Commission.

Subject: IP CTS Improvements and Program Management, Report and Order, FCC 19-11, published at 84 FR 8457, March 8, 2019, in CG Docket Nos. 13-24 and 03-123. This document is being published pursuant to 47 CFR 1.429(e). See also 47 CFR 1.4(b)(1) and 1.429(f), (g).

Number of Petitions Filed: 1.

Petition for Reconsideration has been filed in the Commission's Rulemaking proceeding by David O'Connor, on behalf of Hamilton Relay, Inc.

Federal Communications Commission.
Eliot Greenwald,
Deputy Chief, Disability Rights Office, Consumer and Governmental Affairs Bureau.

[FR Doc. 2019-12800 Filed 6-17-19; 8:45 am]

BILLING CODE 6712-01-P